DEPARTMENT OF AGRICULTURE

Food and Nutrition Service

Agency Information Collection Activities: Proposed Collection; Comment Request—Supplemental Nutrition Assistance Program (SNAP), Store Applications, Forms FNS-252, FNS-252-E, FNS-252-FE, FNS-252-R, FNS-252-2 and FNS-252-C

AGENCY: Food and Nutrition Service (FNS), USDA.

ACTION: Notice.

SUMMARY: In accordance with the Paperwork Reduction Act of 1995, this notice invites the general public and other public agencies to comment on the proposed collection. This is a revision of a currently approved collection in the Supplemental Nutrition Assistance Program and concerns Retail Store Applications (Forms FNS-252; FNS-252-E; FNS-252-FE; FNS-252-R; FNS-252-2; and FNS-252-C).

DATES: Written comments must be received on or before October 16, 2018.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical or other technological collection techniques or other forms of information technology.

Comments may be sent to: Nicole Budzius, Chief, Retailer Administration Branch, Supplemental Nutrition Assistance Program, Retailer Policy and Management Division, Food and Nutrition Service, U.S. Department of Agriculture, 3101 Park Center Drive, Room 422, Alexandria, VA 22302. Comments may be faxed to the attention of Ms. Budzius at (703) 305-1863 or via email to: RPMDHQ-WEB@fns.usda.gov. Comments will also be accepted through the Federal eRulemaking Portal. Go to http://www.regulations.gov, and follow the online instructions for submitting comments electronically. All written comments will be open for public inspection at the FNS office located at 3101 Park Center Drive, Room 422, Alexandria, Virginia 22302, during regular business hours (8:30 a.m. to 5 p.m. Monday through Friday).

All responses to this notice will be summarized and included in the request for Office of Management and Budget approval. All comments will be a matter of public record.

FOR FURTHER INFORMATION CONTACT: Requests for additional information or copies of this information collection should be directed to Nicole Budzius at RPMDHQ-WEB@fns.usda.gov.

SUPPLEMENTARY INFORMATION:

Title: Supplemental Nutrition Assistance Program (SNAP)—Store Applications.

Form Number: FNS-252; 252-E; 252-FE; 252-R; 252-2; and 252-C.

OMB Number: 0584-0008.

Expiration Date: January 31, 2021.

Type of Request: Revision of a currently approved collection of information.

Abstract: Section 9(a) of the Food and Nutrition Act of 2008, as amended, (the Act) (7 U.S.C. 2011 et seq.) requires that FNS determine the eligibility of retail food stores and certain food service organizations to accept SNAP benefits and to monitor them for compliance and continued eligibility and to ensure Program integrity.

FNS is also responsible for requiring updates to application information and reviewing retail food store applications at least once every five years to ensure that each firm is under the same ownership and continues to meet eligibility requirements. The Act specifies that only those applicants whose participation will “effectuate the purposes of the program” should be authorized.

There are six forms associated with this approved Office of Management and Budget (OMB) information collection number 0584-0008—the Supplemental Nutrition Assistance Program Application for Stores, Forms FNS-252 (English and Spanish) and FNS-252-E (paper and online version respectively); Farmer's Market Application, Form FNS-252-FE; Meal Service Application, Form FNS-252-2; Reauthorization Application, Form FNS-252-R; and the Corporation Supplemental Application, Form FNS-252-C used for individual (chain) stores under a corporation. For new authorizations, the majority of applicants use form FNS-252 or FNS-252-E (paper or online, respectively). FNS is responsible for reviewing retail food store applications at least once every five years to ensure that each firm is under the same ownership and continues to meet eligibility guidelines. In order to accomplish this regulatory requirement, form FNS-252-R is used for reauthorization. In addition to these forms, during authorization or reauthorization, FNS may conduct an on-site store visit of the firm. The store visit of the firm helps FNS confirm that the information provided on the application is correct. An FNS representative or store visit contractor obtains permission to fill in the store visit checklist, photograph the store and asks the store owner or manager about the continued ownership of the store.

Applicants using form FNS-252-E or FNS-252-FE must also first self-register for a Level 1 access account through the USDA eAuthentication system in order to start an online application. USDA eAuthentication facilitates the electronic authentication of an individual.

The Agricultural Act of 2014 (2014 Farm Bill) amended the Food and Nutrition Act of 2008 (the Act) and the Supplemental Nutrition Assistance Program (SNAP) revised all retailer application forms (paper and electronic) in January, 2018, as a result of regulatory changes required by the Act and amended by the 2014 Farm Bill. Such changes to the Act amended the definition of “retail food store” to clarify when a retailer is a restaurant rather than a retail food store. Among the changes made to the SNAP retailer application form(s), the Food and Nutrition Service (FNS) added a new question, Question 18, concerning restaurant licensing, and revised Question 22, regarding total retail sales on Form FNS-252. Currently, respondents select a Yes or No response if they have or are applying for a restaurant license for their store in Question 18. Question 22 currently asks retailers to enter their total retail sales by category in dollars for a one year period. Sales categories include gasoline, lottery, tobacco, alcohol, other nonfood, and hot foods, cold prepared foods, accessory foods, and staple foods. Due to concern with the manner in which FNS is currently asking for retailer sales data, FNS is updating the retailer application question regarding sales. FNS is also removing the question concerning restaurant licensing and the requirement for businesses located in community property states to provide spousal information for each owner. Question 22 will revert back to asking for percentages for each category as opposed to exact dollar amounts. FNS will also change from asking for individual sales amounts for each non-food category to asking for the percentage of total sales in gasoline and an aggregate percentage of all other total non-foods sold by the firm.

FNS intends to (1) rename Question 3, “Doing Business As (if different from Store Name)” to “Legal Business Name (if different from Store Name)”, (2) update Question 14 to remove the sentence requiring spousal information for businesses located in community property states, and in the Business Title section remove the word “spouse” in questions 14a-14d, (3) delete Question 18 regarding restaurant licensing, (4) revise Question 22 concerning total retail sales in the following manner: (a) Respondents will provide a response for either estimated or actual sales for a one year period. If actual sales are provided, the respondent will indicate the applicable tax year for this information. FNS also added back in the option to provide estimated retail sales per day, week, month, or year for total retail sales in Question 22b, and (b) provide a percentage of total retail sales for each category of product sold: Staple foods; accessory foods; hot foods, cold foods prepared on site; gasoline, and other non-food items, (5) add a new sentence to the Certification and Signature Statement to more clearly outline the risk for owners that are disqualified or fined for violation of Program rules; and (6) where appropriate, re-number the questions and update assistance material such as the General and Specific Instructions sections and on-line help screens. With the exception of the question identified in 4(b) above, no new questions or data information is being asked.

A draft of the proposed revision to Question 22 is provided in Attachment A. FNS also shared a draft of the proposed changes with our stakeholders. The proposed revision incorporates the feedback FNS received with the exception of any changes that would render FNS unable to make an eligibility decision or complete retailer monitoring activities. FNS would like to take this opportunity to clarify that while cold foods prepared on-site, such as at an in-store deli or salad bar, are eligible for purchase with SNAP benefits, collection of the percentage sales information is still necessary for FNS to make a restaurant determination. Additionally, all information provided on the application is information “provided by the retailer” and is protected under Section 9(c) of the Food and Nutrition Act of 2008, as amended, (the Act) (7 U.S.C. 2011 et seq.) and as such, not subject to release under the Freedom of Information Act (FOIA). The feedback FNS incorporated includes asking for sales percentages as opposed to an exact sales amount for each category, removing the requirement to provide individual sales figures for lottery, tobacco, and alcohol, rewording “cold prepared foods” to “cold food prepared on site,” continuing to separate hots foods from cold foods, and clarifying the instructions for Question 22. The aggregated percentages of non-food sales, of accessory sales, and of gas sales, in particular, will provide FNS with an indicator as to whether a criteria B eligibility or restaurant assessment are necessary.

FNS estimates that the hourly burden time per response associated with this information collection for respondents remains unchanged from our previous submission. The revisions to the application(s) are due to program adjustments and the update to Question 3, the removal of a sentence in Question 14, the deletion of Question 18, the reformatting of information collected in Question 22; and the revision to the Certification and Signature Statement.

FNS used FY 2017 data in our calculation of burden estimates associated with this information collection as this was the most complete data available to us at this time. Table A below clarifies the burden of this information collection.

As currently approved by OMB, the hourly burden rate per response varies by the type of application used and the response time per respondent varies from 1 minute to 19 minutes. We estimate the new burden, on average, to be 9.13 minutes per respondent. There is no recordkeeping burden associated with these forms.

Affected Public: Business for Profit; Retail food stores; Farmers' Markets, Military Commissaries and Meal Services.

Estimated Number of Respondents: The total estimated number of respondents is 143,354 annually.

Estimated Number of Responses per Respondent: Respondents complete either 1 application form at initial authorization or 1 reauthorization application, as appropriate, for a total of 1 response each.

Estimated Total Annual Responses: 143,354.

Estimated Time per Response: 9.13 minutes (0.1534941). The estimated time response varies from 1 minute to 19 minutes depending on respondent group, as shown in the table below:

Table A—Reporting Estimate of Hour Burden
[Summary of burden—#0584-0008]
|  | (a) | (b) | (c) | (d) | (e) | (f) | (g)
Affected public | Respondent type | Description of collection activity | Form No. | Number of respondents | Number of responses per respondent | Total annual responses (cxd) | Hours per response | Total burden (exf)
Reporting
Farms, Business for not for profit | SNAP Retailer, Farmers' Market, and Meal Service | Applications Received Applications Received | 252 252-E | 1,381 31,480 | 1 1 | 1,381 31,480 | 0.3167 0.25 | 437.36 7,870
|  | E-Authentication | 252-E and FNS-252-FE | 33,213 | 1 | 33,2139 | 0.1336 | 4,437.25
|  | Applications Received | 252-FE | 1,730 | 1 | 1,730 | 0.25 | 432.50
|  | Applications Received | 252-2 | 386 | 1 | 386 | 0.25 | 96.50
|  | Applications Received | 252-C | 5,658 | 1 | 5,658 | 0.25 | 1,414.50
|  | Store Visits |  | 43,126 | 1 | 43,126 | 0.0167 | 720.20
|  | Reauthorization | 252-R | 26,377 | 1 | 26,377 | 0.25 | 6,594.25
Sub-Total For Farm & Business | 143,351 | 1 | 143,351 | 0.1534873 | 22,002.56
Federal | Military Commissaries | Applications Received | 252-E | 3 | 1 | 3 | 0.3167 | 0.95
|  | Reauthorization | 252-R | 0 | 1 | 0 | 0.25 | 0
Sub-Total For Federal Respondents | 3 | 1 | 3 | 0.3167 | 0.95
Grand Total Reporting Burden | 143,354 | 1 | 143,354 | 0.1534907 | 22,003.51
SUMMARY OF BURDEN FOR THIS COLLECTION | 143,354 | 1 | 143,354 | 0.1534941 | 22,004
* Note: The respondents for the 252-E and the 252-FE are the same respondents for e-Authentication and therefore not double counted in the total number of respondents.

Attachment A: Draft FNS-252.

Dated: August 8, 2018.
Brandon Lipps,
Administrator, Food and Nutrition Service.

[FR Doc. 2018-17722 Filed 8-16-18; 8:45 am]

BILLING CODE 3410-30-P